DEPARTMENT OF THE INTERIOR

Bureau of Ocean Energy Management

[Docket No. BOEM-2015-0068]

Outer Continental Shelf, Alaska Region, Beaufort Sea Planning Area, Liberty Development and Production Plan, MMAA104000

AGENCY: Bureau of Ocean Energy Management (BOEM), Interior.

ACTION: Notice of Intent (NOI) to prepare an Environmental Impact Statement (EIS).

SUMMARY: BOEM is announcing its intent to prepare an EIS for the Liberty Development and Production Plan (DPP) in the Beaufort Sea Planning Area. The DPP proposes several steps. A man-made gravel production island, known as the Liberty Drilling and Production Island (LDPI), would be established in Foggy Island Bay. Gravel for construction would come from a new mine west of the Kadleroshilik River. A pipeline would link the LDPI to the Badami Sales Oil Pipeline (Badami pipeline). The pipe-in-pipe pipeline would be buried along a route going south from the LPDI to the shoreline west of the Kadleroshilik River, transition to an above-ground pipeline, and continue south to tie into the existing Badami pipeline. Oil produced from the LDPI would be transported through the Badami pipeline to the existing common carrier pipeline system to the Trans-Alaska Pipeline System.

This NOI also serves to announce the beginning of the scoping process. The scope of an EIS refers to the range of issues, alternatives, and mitigation measures to be considered. Public scoping assists the agency in focusing on significant issues and alternatives and eliminating from detailed consideration those issues that are insignificant, irrelevant or have been fully and adequately considered in prior analyses. No alternatives, other than the no-action alternative, have yet been identified.

Through this notice, BOEM also invites public input regarding the identification of historic properties and potential effects from the proposed action to historic properties as defined by the National Historic Preservation Act (NHPA) (54 U.S.C. 306108), as provided for in 36 CFR 800.2(d)(3). Additional information related to the Liberty DPP, including the proposed plan itself, may be found at http://www.boem.gov/Liberty.

DATES: Comments should be submitted no later than November 24, 2015.

FOR FURTHER INFORMATION CONTACT: For information on the Liberty DPP EIS, the submission of comments, or BOEM's policies associated with this notice, please contact Lauren Boldrick, Project Manager, BOEM, Alaska OCS Region, 3801 Centerpoint Drive, Suite 500, Anchorage, AK 99503, telephone (907) 334-5227.

SUPPLEMENTARY INFORMATION: BOEM invites qualified entities, such as other Federal agencies, state, tribal, and local governments, to consider becoming cooperating agencies for the preparation of this EIS. Following the guidelines at 40 CFR 1501.6 and 1508.5 from the Council on Environmental Quality (CEQ), qualified agencies and governments are those with “'jurisdiction by law or special expertise.” Potential cooperating agencies should consider their authority and capacity to assume the responsibilities of a cooperating agency and remember that an agency's role in the environmental analysis neither enlarges nor diminishes the final decisionmaking authority of any other agency involved in the National Environmental Policy Act (NEPA) process. Upon request, BOEM will provide potential cooperating agencies with a written summary of guidelines for cooperating agencies, including time schedules and critical action dates, milestones, responsibilities, scope and detail of cooperating agencies' contributions, and availability of pre-decisional information. BOEM anticipates this summary will form the basis for a Memorandum of Understanding between BOEM and any cooperating agency consistent with 43 CFR 46.226(d). BOEM, as the lead agency, will not provide financial assistance to cooperating agencies. In addition to becoming a cooperating agency, other opportunities will exist to provide information and comments to BOEM during the public comment period for the EIS.

Federal, state, tribal, and local governments and/or agencies and other interested parties may submit written comments on the scope of this EIS through the Federal eRulemaking Portal: http://www.regulations.gov. In the field entitled “Enter Keyword or ID,” enter [Docket No. BOEM-2015-0068], and then click “search.” Follow the instructions to submit public comments and view supporting and related materials available for this notice.

Before including your address, phone number, email address or other personal identifying information in your comment, you should be aware that your entire comment, including your personal identifying information, may be made publicly available at any time. While you can ask us in your comments to withhold your personal identifying information from public review, we cannot guarantee that we will be able to do so.

Pursuant to the regulations implementing the procedural provisions of NEPA, BOEM will hold public scoping meetings. The purpose of these meetings is to solicit comments on the scope of the Liberty Development and Production Plan EIS. These meetings are scheduled as follows:

• November 2, 2015, Westmark Conference Center, Fairbanks, Alaska;

• November 3, 2015, Kaktovik Community Center, Kaktovik, Alaska;

• November 4, 2015, Kisik Community Center, Nuiqsut, Alaska;

• November 5, 2015, Inupiat Heritage Center, Barrow, Alaska; and

• November 9, 2015, Embassy Suites (Benson Boulevard), Anchorage, Alaska.

Authority: This NOI to prepare an EIS is in compliance with the National Environmental Policy Act of 1969, as amended (42 U.S.C. 4231 et seq.), and is published pursuant to implementing regulations at 40 CFR 1501.7 and 43 CFR 46.415.

Dated: September 15, 2015.
Abigail Ross Hopper,
Director, Bureau of Ocean Energy Management.

[FR Doc. 2015-24391 Filed 9-24-15; 8:45 am]

BILLING CODE 4310-MR-P